DEPARTMENT OF ENERGY

Federal Energy Regulatory Commission

[Docket No. RM01-10-001]

Standards of Conduct for Transmission Providers; Notice of Agenda for Technical Conference

May 7, 2004.

This notice provides additional information concerning the May 10, 2004 technical conference to discuss the Standards of Conduct for Transmission Providers governing the relationships between transmission providers and their energy affiliates. (See April 19, 2004, Notice of Technical Conference.) The conference will begin at 10 a.m. (CST) at the Doubletree Hotel—Allen Center, 400 Dallas Street, Houston, Texas. The meeting will conclude at approximately 4 p.m. All interested persons are invited to attend. There is no registration fee.

This agenda has been organized to reflect the interests of those who have submitted questions. As a result of feedback regarding the organization of this conference, the afternoon sessions will continue in one group rather than break out into smaller groups as suggested in the previous Notice. Also, in response to several inquiries, attire for the conference will be business casual.

Standing microphones will be available to enable those in the audience to participate in the discussion, as issues arise. Capitol Connection offers the opportunity to listen to the conference from remote locations. It is available for a fee, live over the Internet, by phone or via satellite. Persons interested in receiving the audiocast, or who need information on making arrangements should contact David Reininger or Julia Morelli at Capitol Connection (703-993-3100) as soon as possible or visit the Capitol Connection Web site at http://www.capitolconnection.org and click on “FERC.”

Questions about the conference should be directed to: Demetra Anas, Office of Market Oversight and Investigations, Federal Energy Regulatory Commission, 888 First Street, NE., Washington, DC 20426, 202-502-8178.

May 10, 2004.
Magalie R. Salas,
Secretary, Standards of Conduct Affiliate Conference—Agenda

The times listed herein are approximate. The discussion of particular topics may take more or less time.

10 a.m. Introductions and Summary of Order No. 2004

Commissioner Nora Brownell

William Hederman, Director, Office of Market Oversight & Investigations

Brief Summary of Order No. 2004 requirements

10:30 a.m. Chief Compliance Officer—Duties and Experiences

Jerry Langdon, Reliant—Chief Compliance Officer

Keith LeBauve, Cleco Power—Director, Regulatory Compliance

Sherry Nelson, The Williams Companies—Chief Compliance Officer

11:30 a.m. Training Requirements

Deme Anas, Enforcement, OMOI

12:30 p.m. Lunch Break

1:30 p.m. Commissioner Suedeen Kelly

Compliance Practices

Robert Pease, Deputy Director for Enforcement and Investigations, OMOI

Bob Anderson, Executive Director, Chief Compliance Risk Officers

2:30 p.m. Discussions

• Information Disclosure

• Independent Functioning

• Posting Requirements

• Discretionary Waiver of Tariff Provisions

3:30 p.m. Wrap-Up

[FR Doc. E4-1144 Filed 5-12-04; 8:45 am]

BILLING CODE 6717-01-P